DEPARTMENT OF THE INTERIOR

Bureau of Indian Affairs

Indian Gaming

AGENCY: Bureau of Indian Affairs, Interior.

ACTION: Notice of Tribal—State Gaming Compact Amendments taking effect between the State of Wisconsin and the Lac Courte Oreilles Bank of Lake Superior Chippewa Indians, the Oneida Tribe of Indians, the Menominee Indian Tribe, and the Bad River Bank of Lake Superior Chippewa Indians.

SUMMARY: Pursuant to Section 11 of the Indian Gaming Regulatory Act of 1988 (IGRA), Public Law 100-497, 25 U.S.C. 2710, the Secretary of the Interior shall publish, in the Federal Register, notice of the approved Tribal-State compacts for the purpose of engaging in Class III gaming activities on Indian lands. The Assistant Secretary—Indian Affairs, Department of the Interior, through her delegated authority, is publishing notice that the Amendment to the Gaming Compact of 1991 between the Lac Courte Oreilles Bank of Lake Superior Chippewa Indians and the State of Wisconsin executed on April 29, 2003; the Amendment to the Gaming Compact of 1991 between the Bad River Band of Lake Superior Chippewa Indians and the State of Wisconsin executed on April 25, 2003; the Amendment to the Gaming Compact of 1991 between the Oneida Tribe of Indians and the State of Wisconsin executed on April 28, 2003; and the Amendment to the Gaming Compact of 1992 between the Menominee Indian Tribe and the State of Wisconsin executed on April 29, 2003, are considered approved. By the terms of IGRA, the Amendments to the Compacts are considered approved, but only to the extent that the Amendments are consistent with the provisions of IGRA.

The Amendments expand the scope of gaming activities authorized under the Compact, remove limitations on wager limits, remove limitations on the number of permitted gaming devices, extend the term of the compact to an indefinite term, subject to re-opener clauses, institute an entirely new dispute resolution provision, replace the sovereign immunity provision, and modify the revenue-sharing provision of the Compact.

EFFECTIVE DATES: July 22, 2003.

FOR FURTHER INFORMATION CONTACT: George T. Skibine, Director, Office of Indian Gaming Management, Bureau of Indian Affairs, Washington, DC 20240, (202) 219-4066.

Dated: July 10, 2003.
Woodrow W. Hopper, Jr.,
Acting Deputy Assistant Secretary—Indian Affairs (Management).

[FR Doc. 03-18631 Filed 7-21-03; 8:45 am]

BILLING CODE 4310-4N-M